DEPARTMENT OF COMMERCE

International Trade Administration

[Case Number: A-533-824, A-583-837]

Polyethylene Terephthalate Film, Sheet, and Strip From India and Taiwan: Notice of Postponement of Preliminary Antidumping Duty Determinations

AGENCY: Import Administration, International Trade Administration, Department of Commerce.

ACTION: Notice of postponement of preliminary antidumping duty determinations in antidumping duty investigations.

SUMMARY: The Department of Commerce is postponing the preliminary determinations in the antidumping duty investigations on polyethylene terephthalate film, sheet, and strip (PET film) from India and Taiwan from October 24, 2001, until December 13, 2001. This postponement is made pursuant to section 733(c)(1)(B) of the Tariff Act of 1930, as amended by the Uruguay Round Agreements Act.

EFFECTIVE DATE: October 12, 2001.

FOR FURTHER INFORMATION CONTACT: Howard Smith, Ronald Trentham or Timothy Finn at (202) 482-5193, (202) 482-6320, or (202) 482-0065, respectively; Office 4, Group 2, Import Administration, International Trade Administration, U.S. Department of Commerce, 14th Street and Constitution Avenue NW., Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act. In addition, unless otherwise indicated, all citations to Department of Commerce's (the Department's) regulations are to 19 CFR Part 351 (2001).

Background

On June 13, 2001, the Department initiated the above-referenced investigations. See Notice of Initiation of Antidumping Duty Investigations: Polyethylene Terephthalate Film, Sheet, and Strip from India and Taiwan, 66 FR 31888 (June 13, 2001).

Postponement of Preliminary Determination

Currently, the preliminary determinations are due no later than October 24, 2001. However, pursuant to section 733(c)(1)(B) of the Act, we have determined that these investigations are “extraordinarily complicated” and are therefore postponing the preliminary determinations by 50 days to December 13, 2001. Under section 733(c)(1)(B) of the Act, the Department can extend the period for reaching a preliminary determination until not later than the 190th day after the date on which the administering authority initiates an investigation if:

(B) The administering authority concludes that the parties concerned are cooperating and determines that—

(i) the case is extraordinarily complicated by reason of—

(I) the number and complexity of the transactions to be investigated or adjustments to be considered;

(II) the novelty of the issues presented; or

(III) the number of firms whose activities must be investigated; and

(ii) additional time is necessary to make the preliminary determination.

The parties concerned are cooperating in these investigations. Additional time is necessary, however, to complete the preliminary determinations due to the number and complexity of the transactions to be investigated and adjustments to be considered, and the novelty of issues presented.

With respect to India, the Department needs to consider a number of complex sales, cost, and affiliation issues associated with two companies. In regard to Taiwan, on September 19 and September 26, 2001 the Department received allegations that sales were made below the cost of production during the period of investigation. We reviewed those allegations and initiated investigations of sales below cost. Therefore, for both investigations, additional time is required to review the issues and the cost information for purposes of the preliminary determinations. Therefore, pursuant to section 733(c)(1)(B) of the Act, we are postponing the preliminary determinations in these investigations until December 13, 2001. This notice is issued and published pursuant to section 733(c)(2) of the Act and 19 CFR 351.205(f).

Dated: October 4, 2001.
Joseph A. Spetrini,
Acting Assistant Secretary for Import Administration.

[FR Doc. 01-25712 Filed 10-11-01; 8:45 am]

BILLING CODE 3510-DS-P